DEPARTMENT OF HEALTH AND HUMAN SERVICES

Centers for Medicare & Medicaid Services

[CMS-1410-CN]

42 CFR Part 483

RIN 0938-AP46

Medicare Program; Prospective Payment System and Consolidated Billing for Skilled Nursing Facilities; Correction

AGENCY: Centers for Medicare & Medicaid Services (CMS), HHS.

ACTION: Final rule; correction.

SUMMARY: This document corrects technical errors that appeared in the final rule published in the Federal Register (74 FR 40288) on August 11, 2009 entitled, ”Medicare Program; Prospective Payment System and Consolidated Billing for Skilled Nursing Facilities for FY 2010; Minimum Data Set, Version 3.0 for Skilled Nursing Facilities and Medicaid Nursing Facilities.”

DATES: Effective Date: This correction is effective October 1, 2009.

FOR FURTHER INFORMATION CONTACT: Bill Ullman, (410) 786-5667.

SUPPLEMENTARY INFORMATION:

I. Background

In FR Doc. E9-18662 of August 11, 2009 (74 FR 40288), there were three errors (two typographical errors and a technical error in the wage index values) that we are identifying and correcting in section III—“Correction of Errors”. The corrections in this notice are effective as if they were included in the final rule published on August 11, 2009. Accordingly, the corrections are effective October 1, 2009.

II. Summary of Errors

In the August 11, 2009 final rule, we made two typographical errors in the preamble that resulted in an incorrect date being cited. First, on page 40293, we stated that the “* * * final rule sets forth a schedule of Federal prospective payment rates applicable to Medicare Part A SNF services beginning October 1, 2010.” We are correcting the date that appears in this sentence so that it correctly reads “October 1, 2009” consistent with Tables 2 and 3 (“FY 2010 Unadjusted Federal Rate Per Diem Urban” and “FY 2010 Unadjusted Federal Rate Per Diem Rural”), and with the fiscal year (FY) 2010 effective date for the Federal rates specified throughout the preamble. In addition, on page 40297, we made a typographical error resulting in an incorrect date being cited in describing the prospective nature of the recalibration of the case-mix weights. The purpose of the paragraph where the date appears is to explain that in order to avoid possible negative consequences, the recalibration of the case-mix weights is being implemented on a prospective basis only, and does not include a retroactive recoupment of any overpayments already made. We are correcting the date that appears in the preamble, so that it correctly reads “October 1, 2009” rather than “October 1, 2010”, consistent with the FY 2010 effective date specified for the recalibration throughout the final rule.

In addition, in the addendum to the August 11, 2009 final rule, we are revising an entry in Table B: “FY 2010 Wage Index Based on CBSA Labor Market Areas for Rural Areas” in order to correct a technical error arising from the revision of wage data for two inpatient prospective payment system (IPPS) providers. We inadvertently excluded the wage data for a hospital that should have been included in the wage index calculation, and included the wage data for a hospital that should have been excluded from the wage index. Accordingly, we are revising the wage index value displayed in Table B for rural California from “1.2001” to the corrected value of “1.2051”. As this revision involves only a single entry in Table B, we are not republishing the table in its entirety in this notice; however, we note that the corrected version of this table is available on the SNF PPS Web site, which can be accessed online at http://www.cms.hhs.gov/SNFPPS/.

III. Correction of Errors

In FR Doc. E9-18662 (74 FR 40288), make the following corrections:

1. On page 40293, in column 2, in the first paragraph under Section III.B.1 (Federal Prospective Payment System), in the first sentence, the date “October 1, 2010” is corrected to read “October 1, 2009”.

2. On page 40297, in column 2, in the last paragraph, in the first line from the bottom, the date “October 1, 2010” is corrected to read “October 1, 2009”.

3. On page 40385, in Table B, in column 3 of the table, in line 5, the wage index “1.2001” is corrected to read “1.2051”.

IV. Waiver of Proposed Rulemaking and Delayed Effective Date

We ordinarily publish a proposed rule in the Federal Register to provide a period for public comment before the provisions of a rule such as this take effect in accordance with section 553(b) of the Administrative Procedure Act (APA) (5 U.S.C. 553(b)). We also ordinarily provide a 30-day delay in the effective date of the provisions of a notice in accordance with section 553(d) of the APA (5 U.S.C. 553(d)). However, we can waive both the notice and comment procedure and the 30-day delay in effective date if the Secretary finds, for good cause, that a notice and comment process is impracticable, unnecessary, or contrary to the public interest, and incorporates a statement of the finding and the reasons for it in the notice.

We find for good cause that it is unnecessary to undertake notice and comment rulemaking because this notice merely provides technical corrections to the regulations. We are not making substantive changes to our payment methodologies or policies, but rather, are simply implementing correctly the payment methodologies and policies that we previously proposed, received comment on, and subsequently finalized. The public has already had the opportunity to comment on these payment methodologies and policies, and this correction notice is intended solely to ensure that the FY 2010 skilled nursing facility (SNF) prospective system (PPS) final rule accurately reflects them. Therefore, we believe that undertaking further notice and comment procedures to incorporate these corrections into the final rule is unnecessary and contrary to the public interest.

Further, we believe a delayed effective date is unnecessary because this correction notice merely corrects inadvertent technical errors. The changes noted above do not make any substantive changes to the SNF PPS payment methodologies or policies. Moreover, we regard imposing a delay in the effective date as being contrary to the public interest. We believe that it is in the public interest for providers to receive appropriate SNF PPS payments in as timely a manner as possible and to ensure that the FY 2010 SNF PPS final rule accurately reflects our payment methodologies, payment rates, and policies. Therefore, we find good cause to waive notice and comment procedures, as well as the 30-day delay in effective date.

(Catalog of Federal Domestic Assistance Program No. 93.773, Medicare—Hospital Insurance; and Program No. 93.774, Medicare—Supplementary Medical Insurance Program)

Dated: September 16, 2009.
Dawn L. Smalls,
Executive Secretary to the Department.

[FR Doc. E9-22958 Filed 9-24-09; 8:45 am]

BILLING CODE 4120-01-P